ENVIRONMENTAL PROTECTION AGENCY

[EPA-HQ-OPP-2017-0137; FRL-9961-70]

Pyridate; Receipt of Application for Emergency Exemption, Solicitation of Public Comment

AGENCY: Environmental Protection Agency (EPA).

ACTION: Notice.

SUMMARY: EPA has received a specific exemption request from the Washington State Department of Agriculture to use the herbicide pyridate (CAS No. 55512-33-9) to treat up to 13,850 acres of double-cut mint to control terbacil-resistant redroot pigweed biotypes, common lambquarters, Powell amaranth, cinquefoil, Russian thistle, marestail and field violet in Washington. The applicant proposes a use of a pesticide that was voluntarily canceled in 2004, and which is now considered to be unregistered under the Federal Insecticide, Fungicide, and Rodenticide Act (FIFRA). EPA is soliciting public comment before making the decision whether or not to grant the exemption.

DATES: Comments must be received on or before June 8, 2017.

ADDRESSES: Submit your comments, identified by docket identification (ID) number EPA-HQ-OPP-2017-0137, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Michael L. Goodis, Registration Division (7505P), Office of Pesticide Programs, Environmental Protection Agency, 1200 Pennsylvania Ave. NW., Washington, DC 20460-0001; main telephone number: (703) 305-7090; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through www.regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low income populations, in the development, implementation, and enforcement of environmental laws, regulations, and policies. To help address potential environmental justice issues, the Agency seeks information on any groups or segments of the population who, as a result of their location, cultural practices, or other factors, may have atypical or disproportionately high and adverse human health impacts or environmental effects from exposure to the pesticide discussed in this document, compared to the general population.

II. What action is the Agency taking?

Under section 18 of the FIFRA (7 U.S.C. 136p), at the discretion of the EPA Administrator, a Federal or State agency may be exempted from any provision of FIFRA if the EPA Administrator determines that emergency conditions exist which require the exemption. The Washington State Department of Agriculture has requested the EPA Administrator to issue a specific exemption for the use of pyridate on double-cut mint (peppermint and spearmint) to control terbacil-resistant redroot pigweed biotypes, common lambquarters, Powell amaranth, cinquefoil, Russian thistle, marestail and field violet. Information in accordance with 40 CFR part 166 was submitted as part of this request.

In this specific exemption, the Applicant asserts that there are currently no available registered herbicides that can be applied at the proper timing to provide effective control of various broadleaf weeds without causing unacceptable injury in double-cut mint. In addition, there are no economically or environmentally feasible alternative practices, and that mint producers expect to experience yield loss greater than 20% in double-cut spearmint and peppermint.

The Applicant proposes to apply no more than a total of 2,597 gallons of the unregistered product, Tough EC, (approximately 12,985 pounds active ingredient of pyridate) per acre per year. Up to 13,850 acres of double-cut mint (8,800 acres spearmint; 5,050 acres peppermint) in Washington may be treated. Additional information from the Applicant's submission that details the need for the exemption and the proposed use pattern can be found at http://www.regulations.gov in the specific exemption application request from the Washington Department of Agriculture for emergency use of pyridate in double-cut peppermint and spearmint to control terbacil-resistant redroot pigweed species.

This notice does not constitute a decision by EPA on the application itself. The regulations governing FIFRA section 18 require publication of a notice of receipt of an application for a specific exemption proposing use of a pesticide that was voluntarily canceled in 2004, and which is now considered to be unregistered under the FIFRA Act. Accordingly, this notice provides an opportunity for public comment on the application. The Agency will review and consider all comments received during the comment period in determining whether to issue the specific exemption requested by the Washington State Department of Agriculture. Further, numerous states that have previously requested a specific exemption for use of pyridate on mint to control various broadleaf weeds species may submit similar specific exemption requests.

Authority: 7 U.S.C. 136 et seq.

Dated: April 28, 2017.
Michael Goodis,
Director, Registration Division, Office of Pesticide Programs.

[FR Doc. 2017-10748 Filed 5-22-17; 4:15 pm]

BILLING CODE 6560-50-P